DEPARTMENT OF THE INTERIOR

Bureau of Land Management

[NV-040-5101-ER-F345; N-78803]

Notice to Reopen the Public Scoping Process for the Proposed Clark, Lincoln, and White Pine Counties Groundwater Development Project

AGENCY: Bureau of Land Management, Interior.

ACTION: Notice to Reopen Scoping.

SUMMARY: Notice is hereby given that the Bureau of Land Management, Nevada State Office, will reopen the public scoping period for the proposed Clark, Lincoln and White Pine Counties Groundwater Development to provide opportunity for comment on substantive project changes. The additional public scoping input will be used to prepare the Draft EIS. A notice of intent to prepare and EIS was published in the Federal Register on April 8, 2005, 70 FR 18043-18044.

DATES: The scoping public comment period will commence with the publication of this notice, and will end 60 days after its publication. Comments on the scope of the EIS, including concerns, issues, or proposed alternatives that should be considered in the EIS should be submitted in writing to the address below and will be accepted throughout the scoping period. The reopening scoping notice will be distributed to those who commented during the original scoping period April-August 2005. This distribution will occur by mail on or about the date of this notice. Information concerning the reopening of scoping will also appear on the Nevada BLM Web site at www.nv.blm.gov. No additional public scoping meetings are planned.

ADDRESSES: Please mail written comments to the BLM Nevada State Office, 1340 Financial Boulevard, P.O. Box 12000, Reno, Nevada 89520-0006. FAX: 775-861-6689. Comments submitted during this EIS process, including names and street addresses of respondents will be available for public review at the Nevada State Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to the EIS mailing list, contact Penny Woods at the Nevada State Office (see address above), telephone 775-861-6466.

SUPPLEMENTARY INFORMATION: The proposed Clark, Lincoln, and White Pine Counties Groundwater Development Project (GWD) is proposed by the Southern Nevada Water Authority (SNWA) and would be located in central and eastern Nevada in Clark, Lincoln, and White Pine Counties. The proposed project would develop and convey existing and proposed groundwater under rights authorized by the Nevada Division of Water Resources (Office of the State Engineer) to the Southern Nevada Water Authority and the Lincoln County Water District (LCWD).

The following are the substantive project changes that have resulted in the BLM decision to reopen public scoping:

1. In January 2006, SNWA and the LCWD completed an agreement under which the SNWA would convey existing LCWD groundwater rights from Spring and Lake Valleys in the SNWA pipeline system. It is anticipated that SNWA would convey approximately 36,000 acre feet per year for the LCWD. The total volume that could be conveyed by the entire system would be about 200,000 acre feet per year.

2. The SNWA has withdrawn its proposal to develop groundwater from the Tikaboo Valley North Basin, as well as to construct the associated pipeline that would interconnect with the proposed mainline pipeline system.

All other aspects described in the notice of intent published in the Federal Register on April 8, 2005, 70 FR 18043-18044, remain the same.

A map of the proposed project is available for viewing at the Bureau of Land Management State Office at 1340 Financial Boulevard, Reno, Nevada, and the Ely Field Office, 702 North Industrial Way, Ely NV.

Amy Lueders,
Associate State Director.

[FR Doc. E6-11462 Filed 7-18-06; 8:45 am]

BILLING CODE 4310-HC-P